DEPARTMENT OF TRANSPORTATION

Federal Aviation Administration

14 CFR Part 39

[Docket No. FAA-2013-0707; Directorate Identifier 2013-NM-158-AD; Amendment 39-17582; AD 2013-18-09]

RIN 2120-AA64

Airworthiness Directives; Honeywell ASCa Inc. Emergency Locator Transmitters Installed on Various Transport Category Airplanes

AGENCY: Federal Aviation Administration (FAA), Department of Transportation (DOT).

ACTION: Final rule; request for comments.

SUMMARY: We are adopting a new airworthiness directive (AD) for certain Honeywell ASCa Inc. emergency locator transmitters (ELTs) installed on various transport category airplanes. This AD requires various one-time general visual inspections of the ELT transmitter units (TUs), and corrective actions if necessary. This AD was prompted by a fire on a parked and unoccupied airplane; preliminary information indicated combustion in the area of the ELT TU. We are issuing this AD to detect and correct discrepancies of the battery wiring installation inside the TU, which could result in an electrical short and possible ignition source.

DATES: This AD becomes effective October 3, 2013.

The Director of the Federal Register approved the incorporation by reference of a certain publication listed in this AD as of October 3, 2013.

We must receive comments on this AD by November 4, 2013.

ADDRESSES: You may send comments by any of the following methods:

Federal eRulemaking Portal: Go to http://www.regulations.gov. Follow the instructions for submitting comments.

Fax: (202) 493-2251.

Mail: U.S. Department of Transportation, Docket Operations, M-30, West Building Ground Floor, Room W12-140, 1200 New Jersey Avenue SE., Washington, DC 20590.

Hand Delivery: U.S. Department of Transportation, Docket Operations, M-30, West Building Ground Floor, Room W12-140, 1200 New Jersey Avenue SE., Washington, DC, between 9 a.m. and 5 p.m., Monday through Friday, except Federal holidays.

For Honeywell service information identified in this AD, contact Honeywell ASCa Inc., Customer and Product Support, Customer Support Operations, 3333 Unity Drive, Mississauga, ON, Canada L5L 3S6; telephone: 800-601-3099 (toll-free U.S.A./Canada); telephone: 602-365-3099 (international) email: AeroR&OAvionics@honeywell.com; Internet: www.myaerospace.com. For Boeing service information that is specified but not incorporated by reference in this AD, contact Boeing Commercial Airplanes, Attention: Data & Services Management, P.O. Box 3707, MC 2H-65, Seattle, WA 98124-2207; telephone 206-544-5000, extension 1; fax 206-766-5680; Internet https://www.myboeingfleet.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this AD, the Mandatory Continuing Airworthiness Information (MCAI), the regulatory evaluation, any comments received, and other information. The street address for the Docket Operations office (telephone (800) 647-5527) is in the ADDRESSES section. Comments will be available in the AD docket shortly after receipt.

FOR FURTHER INFORMATION CONTACT: Assata Dessaline, Aerospace Engineer, Avionics and Services Branch, ANE-172, FAA, New York Aircraft Certification Office (ACO), 1600 Stewart Avenue, Suite 410, Westbury, NY 11590; telephone (516) 228-7301; fax (516) 794-5531.

SUPPLEMENTARY INFORMATION:

Discussion

Transport Canada Civil Aviation (TCCA), which is the aviation authority for Canada, has issued Canadian Airworthiness Directive CF-2013-25, dated August 15, 2013 (referred to after this as the Mandatory Continuing Airworthiness Information, or “the MCAI”), to correct an unsafe condition for the specified products. The MCAI states:

Following an event where a fire broke out on a parked and unoccupied aeroplane, the United Kingdom Air Accidents Investigation Branch (AAIB) carried out an investigation to determine the cause of the fire. Although the investigation is still ongoing, preliminary information indicated that there was combustion in the area of the ELT TU. Subsequent to the fire event, inspection of in-service ELT TUs revealed battery wiring installation discrepancies inside the TU that may result in an electrical short. The AAIB noted that in case of an electrical short, the ELT battery could provide the energy for an ignition.

This [Canadian] AD is issued as a precautionary measure to address the possibility of a fire due to wiring installation discrepancies of either the ELT TU or the ELT Battery. Depending on the outcome of the AAIB investigation, Transport Canada may revise this [Canadian] AD or mandate additional corrective actions.

This AD requires one-time general visual inspections of the ELT TUs, and applicable corrective actions. Inspections include general visual inspections for deformation (including bulges and gaps) in the battery cover, damage (including cuts, breaks, cracks, and splits) to the black protective cover of the battery, damage (including cuts, breaks, and splits) to the battery wires and insulation, damage to the TU battery connection wires (including flattening and exposed wires and insulation), and discrepancies (i.e., the gasket shows signs of deformation or indentation, or any blue pull-tab is trapped between the cover and the TU) of the battery cover gasket. Corrective actions include returning the battery/TU to Honeywell, and doing the “return to service” actions (including marking/identifying the battery and TU; repeating the cover inspection one time; and installing the new or serviceable TU). You may obtain further information by examining the MCAI in the AD docket.

Relevant Service Information

Honeywell ASCa Inc. has issued Alert Service Bulletin 1152682-23-A22, Revision 1, dated August 8, 2013. The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

Explanation of Compliance Time

We acknowledge that a compliance time of 120 days is unusually long for an immediately adopted rule. In this case, however, we have determined that it is necessary to provide sufficient time for operators to adequately prepare to meet the requirements of this AD. Based on the large number of affected ELTs, we consider this compliance time necessary to avoid unnecessarily disrupting flight schedules. Although the Canadian AD mandates a 150-day compliance time, we have determined that the 120-day compliance time required by this AD will adequately address the identified unsafe condition. Therefore, a compliance time of 120 days has been specified in order to provide operators with sufficient time to accomplish the requirements of this AD.

FAA's Determination of the Effective Date

An unsafe condition exists that requires the immediate adoption of this AD. The FAA has found that the risk to the flying public justifies waiving notice and comment prior to adoption of this rule because discrepancies of the battery wiring installation inside the TU could result in an electrical short and possible ignition source. Therefore, we determined that notice and opportunity for public comment before issuing this AD are impracticable and that good cause exists for making this amendment effective in less than 30 days.

Comments Invited

This AD is a final rule that involves requirements affecting flight safety, and we did not precede it by notice and opportunity for public comment. We invite you to send any written relevant data, views, or arguments about this AD. Send your comments to an address listed under the ADDRESSES section. Include “Docket No. FAA-2013-0707; Directorate Identifier 2013-NM-158-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 3,832 ELTs installed on transport category airplanes of U.S. registry. We estimate the following costs to comply with this AD:

Estimated Costs
Action | Labor cost | Parts cost | Cost per product | Cost on U.S. operators
Inspections | 1 work-hour × $85 per hour = $85 | $0 | $85 | $325,720

We have received no definitive data that would enable us to provide cost estimates for additional required actions, as the time required to accomplish those actions is specific to the airplane.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-18-09 Honeywell ASCa Inc.: Amendment 39-17582. Docket No. FAA-2013-0707; Directorate Identifier 2013-NM-158-AD.

(a) Effective Date

This AD becomes effective October 3, 2013.

(b) Affected ADs

None.

(c) Applicability

This AD applies to Honeywell ASCs Inc. emergency locator transmitters (ELTs) Model RESCU 406AF and 406AFN with transmitter unit (TU) part numbers (P/Ns) 1152682-1, -2, and -3, installed on transport category airplanes, certificated in any category, but not limited to the airplanes identified in table 1 to paragraph (c) of this AD.

Table 1 to Paragraph (c) of This AD—Affected Airplane Models
Manufacturer | Airplane model
(1) The Boeing Company | (i) 717-200 airplanes.
| (ii) 727, 727C, 727-100, 727 -100C, 727-200, and 727-200F series airplanes.
| (iii) 737-100, -200, -200C, -300, -400, -500, -600, -700, -700C, -800, -900, and -900ER series airplanes.
| (iv) 747-100, -100B, -100B SUD, -200B, -200C, -200F, -300, -400, -400D, and -400F series airplanes; and 747SR, 747SP, 747-8F, and 747-8 series airplanes.
| (v) 757-200, -200PF, -200CB, and -300 series airplanes.
| (vi) 767-200, -300, -300F, and -400ER series airplanes.
| (vii) 777-200, -200LR, -300, -300ER, and 777F series airplanes.
| (viii) 787-8 airplanes.
| (ix) MD-11 and MD-11F airplanes.
| (x) DC-9-81 (MD-81), DC-9-82 (MD-82), DC-9-83 (MD-83), and DC-9-87 (MD-87) airplanes.
| (xi) MD-88 airplanes.
| (xii) MD-90-30 airplanes.
(2) Lockheed Martin Corporation/Lockheed Martin Aeronautics Company | 382, 382B, 382E, 382F, 382G, and 382J airplanes.
(3) Airbus | (i) A300 B2-1A, B2-1C, B2K-3C, B2-203, B4-2C, B4-103, and B4-203 airplanes.
| (ii) A300 B4-601, B4-603, B4-620, and B4-622 airplanes.
| (iii) A300 B4-605R and B4-622R airplanes.
| (iv) A300 F4-605R and F4-622R airplanes.
| (v) A300 C4-605R Variant F airplanes.
| (vi) A310-203, -204, -221, -222, -304, -322, -324, and -325 airplanes.
| (vii) A320-111, -211, -212, -214, -231, -232, and -233 airplanes.
| (viii) A321-111, -112, -131, -211, -212, -213, -231, and -232 airplanes.
| (ix) A330-223F and -243F airplanes.
| (x) A330-201, -202, -203, -223, and -243 airplanes.
| (xi) A330-301, -302, -303, -321, -322, -323, -341, -342, and -343 airplanes.
| (xii) A340-211, -212, and -213 airplanes.
| (xiii) A340-311, -312, and -313 airplanes.
| (xiv) A340-541 airplanes.
| (xv) A340-642 airplanes.
| (xvi) A380-800 series airplanes.
(4) ATR—GIE Avions de Transport Régional | (i) ATR42-200, -300, -320, and -500 airplanes. (ii) ATR72-101, -201, -102, -202, -211, -212, and -212A airplanes.
(5) Dassault Aviation | FALCON 7X airplanes.

(d) Subject

Air Transport Association (ATA) of America Code 23, Communications.

(e) Reason

This AD was prompted by a fire on a parked and unoccupied airplane; preliminary information indicated combustion in the area of the ELT TU. We are issuing this AD to detect and correct discrepancies of the battery wiring installation inside the TU, which could result in an electrical short and possible ignition source.

(f) Compliance

You are responsible for having the actions required by this AD performed within the compliance times specified, unless the actions have already been done.

(g) Inspection

For any ELT TU with any serial number identified in paragraph 1.A., “Effectivity,” including the serial numbers identified in the Note in paragraph 1.A., of Honeywell Alert Service Bulletin 1152682-23-A22, Revision 1, dated August 8, 2013: Within 120 days after the effective date of this AD, do the actions specified in paragraphs (g)(1) and (g)(2) of this AD.

(1) Remove the TU from the airplane.

(2) Do one-time general visual inspections of the ELT TU, in accordance with the Accomplishment Instructions of Honeywell Alert Service Bulletin 1152682-23-A22, Revision 1, dated August 8, 2013.

(h) TU/Battery Pack Return

During any inspection required by this AD, if any discrepancy is found that is unacceptable or exceeds limits as specified in Honeywell Alert Service Bulletin 1152682-23-A22, Revision 1, dated August 8, 2013: At the applicable time specified in paragraph (h)(1) or (h)(2) of this AD, return the TU or battery pack, as applicable, to Honeywell ASCa Inc., Customer and Product Support, Customer Support Operations, 3333 Unity Drive, Mississauga, ON, Canada L5L 3S6; telephone: 800-601-3099 (toll-free U.S.A./Canada); telephone: 602-365-3099 (international) email: AeroR&OAvionics@honeywell.com; Internet: www.myaerospace.com.

(1) If the inspection was done on or after the effective date of this AD: Within 10 days after the inspection.

(2) If the inspection was done before the effective date of this AD: Within 10 days after the effective date of this AD.

(i) Post-inspection Actions

Before further flight after accomplishing the actions required by paragraph (g) of this AD: Perform all applicable return to service actions, in accordance with the Accomplishment Instructions of Honeywell Alert Service Bulletin 1152682-23-A22, Revision 1, dated August 8, 2013. Install a TU that is identified in paragraph 3.F.(2) or 3.F.(3) of Honeywell Alert Service Bulletin 1152682-23-A22, Revision 1, dated August 8, 2013.

(j) Parts Installation Limitations

After installation or replacement of the TU as required by this AD or as specified in paragraph (k) of this AD, no person may install an ELT TU battery unless it is installed using a method approved by either the Manager, New York ACO, FAA; or TCCA (or its delegated agent).

(k) Acceptable Prior Actions for Certain Airplanes

(1) For The Boeing Company Model 787-8 airplanes identified in AD 2013-15-07, Amendment 39-17523 (78 FR 45054, July 26, 2013): Accomplishment of the applicable requirements of AD 2013-15-07 before the effective date of this AD is acceptable for compliance with the requirements of paragraphs (g), (h), and (i) of this AD.

(2) This paragraph provides credit for the applicable actions required by paragraphs (g), (h), and (i) of this AD, if those actions were performed before the effective date of this AD using Honeywell Alert Service Bulletin 1152682-23-A22, dated August 1, 2013, which is not incorporated by reference in this AD.

(3) This paragraph provides credit for the actions required by paragraphs (g), (h), and (i) of this AD, if the applicable actions specified in the service information identified in paragraphs (k)(3)(i) through (k)(3)(vi) of this AD were performed before the effective date of this AD using the applicable service information identified in paragraphs (k)(3)(i) through (k)(3)(vi) of this AD. This service information is not incorporated by reference in this AD.

(i) For The Boeing Company Model 717-200 airplanes: Boeing Multi Operator Message MOM-MOM-13-0597-01B, dated July 28, 2013.

(ii) For The Boeing Company Model 737-600, -700, -700C, -800, -900, and -900ER series airplanes: Boeing Multi Operator Message MOM-MOM-13-0593-01B, dated July 28, 2013.

(iii) For The Boeing Company Model 747-400, -400D, and -400F series airplanes: Boeing Multi Operator Message MOM-MOM-13-0594-01B, dated July 28, 2013.

(iv) For The Boeing Company Model 767 airplanes: Boeing Multi Operator Message MOM-MOM-13-0595-01B, dated July 28, 2013.

(v) For The Boeing Company Model 777 airplanes: Boeing Multi Operator Message MOM-MOM-13-0596-01B, dated July 28, 2013.

(vi) For The Boeing Company Model 787-8 airplanes: Boeing Multi Operator Message MOM-MOM-13-0570-01B, dated July 19, 2013; or Boeing Multi Operator Message MOM-MOM-13-0590-01B, dated July 26, 2013.

(l) Other FAA AD Provisions

The following provisions also apply to this AD:

(1) Alternative Methods of Compliance (AMOCs): The Manager, New York ACO, ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, NY 11590; telephone 516-228-7300; fax 516-794-5531. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(m) Related Information

(1) Refer to Mandatory Continuing Airworthiness Information (MCAI) Canadian Airworthiness Directive CF-2013-25, dated August 15, 2013, for related information. This MCAI may be found in the AD docket on the Internet at http://www.regulations.gov.

(2) For Boeing service information that is specified but not incorporated by reference in this AD, contact Boeing Commercial Airplanes, Attention: Data & Services Management, P.O. Box 3707, MC 2H-65, Seattle, WA 98124-2207; telephone 206-544-5000, extension 1; fax 206-766-5680; Internet https://www.myboeingfleet.com.

(3) Honeywell service information specified but not incorporated by reference in this AD may be obtained at the addresses identified in paragraphs (n)(3) and (n)(4) of this AD.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Honeywell Alert Service Bulletin 1152682-23-A22, Revision 1, dated August 8, 2013.

(ii) Reserved.

(3) For Honeywell service information identified in this AD, contact Honeywell ASCa Inc., Customer and Product Support, Customer Support Operations, 3333 Unity Drive, Mississauga, ON, Canada L5L 3S6; telephone: 800-601-3099 (toll-free U.S.A./Canada); telephone: 602-365-3099 (international) email: AeroR&OAvionics@honeywell.com; Internet: www.myaerospace.com.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to http://www.archives.gov/federal-register/cfr/ibr-locations.html.

Issued in Renton, Washington, on September 6, 2013.
Jeffrey E. Duven,
Acting Manager, Transport Airplane Directorate, Aircraft Certification Service.

[FR Doc. 2013-22396 Filed 9-17-13; 8:45 am]

BILLING CODE 4910-13-P